DEPARTMENT OF ENERGY

Federal Energy Regulatory Commission

Combined Notice of Filings No. 2

January 19, 2010.

Take notice that the Commission has received the following Natural Gas Pipeline Rate and Refund Report filings:

Docket Numbers: RP09-431-001.

Applicants: Vector Pipeline L.P.

Description: Vector Pipeline, LP submits Eleventh Revised Sheet No. 20 et al. to FERC Gas Tariff, Original Volume No. 1.

Filed Date: 01/05/2010.

Accession Number: 20100105-0215.

Comment Date: 5 p.m. Eastern Time on Friday, January 22, 2010.

Docket Numbers: RP10-204-001.

Applicants: Viking Gas Transmission Company.

Description: Viking Gas Transmission Company submits Substitute Seventeenth Revised Sheet No 87.

Filed Date: 01/15/2010.

Accession Number: 20100115-0204.

Comment Date: 5 p.m. Eastern Time on Wednesday, January 27, 2010.

Docket Numbers: RP10-205-002.

Applicants: OkTex Pipeline Company, L.L.C.

Description: OkTex Pipeline Company, LLC submits Substitute First Revised Sheet No 40L.

Filed Date: 01/15/2010.

Accession Number: 20100115-0203.

Comment Date: 5 p.m. Eastern Time on Wednesday, January 27, 2010.

Docket Numbers: RP10-208-001.

Applicants: Midwestern Gas Transmission Company.

Description: Midwestern Gas Transmission Company submits Substitute Sixth Revised Sheet No 272.

Filed Date: 01/15/2010.

Accession Number: 20100115-0201.

Comment Date: 5 p.m. Eastern Time on Wednesday, January 27, 2010.

Docket Numbers: RP10-212-001.

Applicants: Guardian Pipeline, LLC.

Description: Guardian Pipeline, LLC submits Substitute First Revised Sheet No 217A.

Filed Date: 01/15/2010.

Accession Number: 20100115-0202.

Comment Date: 5 p.m. Eastern Time on Wednesday, January 27, 2010.

Docket Numbers: RP91-203-077;

RP92-132-065.

Applicants: Tennessee Gas Pipeline Company.

Description: Tennessee Gas Pipeline Co submits Thirteenth Revised Sheet No. 407 et al. to FERC Gas Tariff, Fifth Revised Volume No. 1.

Filed Date: 12/31/2009.

Accession Number: 20100106-0207.

Comment Date: 5 p.m. Eastern Time on Friday, January 22, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern Time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-2086 Filed 2-1-10; 8:45 am]

BILLING CODE 6717-01-P